DEPARTMENT OF THE INTERIOR

Bureau of Land Management

[CA-320-1110-AE]

Notice of Closure Order for Motorized Vehicle Use, Popcorn Area of Lava Wilderness Study Area, Shasta County, CA

AGENCY: Bureau of Land Management, Interior.

ACTION: Notice of vehicle closure on Popcorn Campground access road in the Lava Wilderness Study Area, Shasta County, California.

SUMMARY: Notice is hereby given that the BLM route within the Popcorn Area is closed to motorized vehicle use within the Lava Wilderness Study Area (WSA). Approximately three tenths of a mile of road will be closed to all motorized vehicle use. The purpose of this road closure is to protect WSA values, protect sensitive species habitat, reduce vandalism, and improve public safety.

EFFECTIVE DATE: This closure is effective on July 22, 2003, and will remain in effect until this notice is rescinded.

SUPPLEMENTARY INFORMATION: The lands in this closure are located within the Mt. Diablo Meridian, Sections 15 and 22, T. 36 N., R. 5 E. This closure is made under the authority of 43 CFR 8341.2(a) and 8364.1. Any person who fails to comply with the provisions of this closure order may be subject to the penalties provided in 43 CFR 8360.0-7.

FOR FURTHER INFORMATION CONTACT: Claude Singleton at the BLM Alturas Field Office at (530) 233-4666, or by e-mail at csinglet@ca.blm.gov.

Dated: April 22, 2003.
Michael P. Dolan,
Acting Alturas Field Office Manager.

[FR Doc. 03-18561 Filed 7-21-03; 8:45 am]

BILLING CODE 4310-40-P